ENVIRONMENTAL PROTECTION AGENCY

[FRL-8503-2]

EPA Office of Children's Health Protection and Environmental Education Staff Office; Notice of Public Meetings for the National Environmental Education Advisory Council

AGENCY: Environmental Protection Agency.

ACTION: Notice.

SUMMARY: The U.S. Environmental Protection Agency (EPA or Agency) Office of Children's Health Protection and Environmental Education Office hereby gives notice that the National Environmental Education Advisory Council will hold public meetings by conference call on the 2nd Wednesday of each month, beginning with December 12, 2007. The purpose of these meetings is to provide the Council with the opportunity to advise the Environmental Education Division on its implementation of the National Environmental Protection Act of 1990.

DATES: This notice is applicable for the following dates:

• December 12, 2007.

• January 9, 2008.

• February 13, 2008.

• March 12, 2008.

• April 9, 2008.

• May 14, 2008.

Conference Call Instructions: Each participant will need to call into the Reservationless-Plus System for the conference call.

• Call the dial-in number no earlier than 3 p.m. EST. The number is (866) 299-3188.

• Enter the conference code when prompted. The conference code is: 2025640453.

FOR FURTHER INFORMATION CONTACT: For information regarding this Notice, please contact Ms. Ginger Potter, Designated Federal Officer (DFO), EPA National Environmental Education Advisory Council, at potter.ginger@epa.gov or (202) 564-0453. General information concerning NEEAC can be found on the EPA Web site at: http://www.epa.gov/enviroed.

Dated: November 28, 2007.
Ginger Potter,
Designated Federal Officer.

[FR Doc. E7-23653 Filed 12-5-07; 8:45 am]

BILLING CODE 6560-50-P